DEPARTMENT OF STATE

[Public Notice 8295]

60-Day Notice of Proposed Information Collection: Application for a U.S. Passport: Name Change, Data Correction, and Limited Passport Book Replacement

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 25, 2013.

ADDRESSES: You may submit comments by any of the following methods:

• Web: Persons with access to the Internet may use the Federal Docket Management System (FDMS) to comment on this notice by going to www.Regulations.gov. You can search for the document by entering “Public Notice 8295” in the Search bar. If necessary, use the Narrow by Agency filter option on the Results page.

• Email: PPTFormsOfficer@state.gov.

• Mail: PPT Forms Officer, U.S. Department of State, 2100 Pennsylvania Avenue NW., Room 3030, Washington, DC 20037.

• Fax: (202) 663-2410.

• Hand Delivery or Courier: PPT Forms Officer, U.S. Department of State, 2100 Pennsylvania Avenue NW., Room 3030, Washington, DC 20037.

You must include the DS form number (if applicable), information collection title, and the OMB control number in any correspondence.

FOR FURTHER INFORMATION CONTACT: Direct requests for additional information regarding the collection listed in this notice, including requests for copies of the proposed collection instrument and supporting documents, to PPT Forms Officer, U.S. Department of State, 2100 Pennsylvania Avenue NW., Room 3030, Washington, DC 20037 who may be reached on (202) 663-2457 or at PPTFormsOfficer@state.gov.

SUPPLEMENTARY INFORMATION: • Title of Information Collection: Application for a U.S. Passport: Name Change, Data Correction, and Limited Passport Book Replacement.

• OMB Control Number: 1405-0160.

• Type of Request: Revision of a Currently Approved Collection.

• Originating Office: Bureau of Consular Affairs, Passport Services, Office of Program Management and Operational Support, Program Coordination Division (CA/PPT/PMO/PC).

• Form Number: DS-5504.

• Respondents: Individuals or Households.

• Estimated Number of Respondents: 114,637 respondents per year.

• Estimated Number of Responses: 114,637 responses per year.

• Average Time per Response: 30 minutes or 0.5 hour.

• Total Estimated Burden Time: 57,319 hours per year.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under 22 United States Code (U.S.C.) Section 211a et seq. and Executive Order 11295 (August 5, 1966), the Secretary of State has authority to issue U.S. passports to U.S. citizens and non-citizen nationals. When the bearer of a valid U.S. passport applies for a new passport book and/or passport card with corrected personal data or when the bearer of a limited validity passport applies for a fully-valid replacement passport, the Department must confirm the applicant's identity and eligibility to receive passport services before the Department can issue the corrected or replacement passport to the applicant. Form DS-5504 requests information that is necessary to determine whether the applicant is eligible to receive this service in accordance with the requirements of Title III of the Immigration and Nationality Act (INA) (U.S.C. sections 1402-1504), the regulations at 22 CFR parts 50 and 51, and other applicable treaties and laws.

Methodology

Passport Services collects information from U.S. citizens and non-citizen nationals when they complete and submit the Application for a U.S. Passport: Name Change, Data Correction, And Limited Passport Book Replacement. Passport applicants can either download the DS-5504 from the Internet or obtain one from an Acceptance Facility/Passport Agency. The form must be completed, signed, and submitted along with the applicant's valid U.S. passport and supporting documents for corrective action.

Additional Information

In addition to general format changes, the following content changes have been made to the form:

• Page 3 Instructions—At the bottom of the page, a new section was added with the heading:

“Special Notice to U.S. Passport Card Applicants Only”.

The section text follows:

“The maximum number of letters provided for your given name (first and middle) on the U.S. passport card is 24 characters. The 24 characters may be shortened due to printing restrictions. If both your given names are more than 24 characters, you must shorten one of your given names you list on item 1 of this form”.

• Page 1 Form—In the photograph box, the words “Submit a recent color photograph” have been replaced with “Attach a color photograph taken within the last six months”.

• Page 1 Form—In the first signature block, “Applicant's Signature—age 16 and older”, the word “Legal” has been added before “Signature”.

• Page 1 Form—The second signature block “Parent's/Legal Guardian's Signature” has been revised to now read “Mother/Father/Parent/Legal Guardian's Signature (if identifying minor)”.

• Page 2 Form—Line Item 19, Travel Plans: The words “Date of Trip” have been replaced with “Departure Date”, and the words “Duration of Trip” have been replaced with “Return Date”.

• Page 2 Form—Under the Yes and No blocks in the last section, the statement:

“If yes, please submit evidence of your United States citizenship and/or evidence of your identity.” has been replaced by: “If yes, please submit evidence of your United States citizenship (such as a government birth certificate) and/or evidence of your identity (such as a driver's license or a state issued identification (ID) card).”

The Department estimates that these changes will not result in an increase in the current burden time of 30 minutes.

Dated: April 26, 2013.
Brenda S. Sprague,
Deputy Assistant Secretary for Passport Services, Bureau of Consular Affairs, Department of State.

[FR Doc. 2013-09964 Filed 4-25-13; 8:45 am]

BILLING CODE 4710-06-P